DEPARTMENT OF VETERANS AFFAIRS

[OMB Control No. 2900-0227]

Agency Information Collection Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before June 2, 2006.

FOR FURTHER INFORMATION CONTACT: For Further Information or a Copy of the Submission Contact: Denise McLamb, Records Management Service (005E3), Department of Veterans Affairs, 810 Vermont Avenue, NW., Washington, DC 20420, (202) 565-8374, FAX (202) 565-6590 or e-mail: denise.mclamb@mail.va.gov. Please refer to “OMB Control No. 2900-0227.”

Send comments and recommendations concerning any aspect of the information collection to VA's OMB Desk Officer, OMB Human Resources and Housing Branch, New Executive Office Building, Room 10235, Washington, DC 20503 (202) 395-7316. Please refer to “OMB Control No. 2900-0227” in any correspondence.

SUPPLEMENTARY INFORMATION: Title: Nation-wide Customer Satisfaction Surveys.

a. Survey of Healthcare Experiences of Patients Recently Discharged Inpatient, VA Form 10-1465-1.

b. Survey of Healthcare Experiences of Patient's Ambulatory Care, VA Form 10-1465-3.

c. About your VA Prosthetics Care and Service, VA Form 10-0142b.

d. Survey on Your Home Based Primary Care (HBPC), VA Form 10-1465-9.

e. Customer Satisfaction Survey for Nutritional and Food Service, VA Form 10-5387.

OMB Control Number: 2900-0227.

Type of Review: Extension of a currently approved collection.

Abstract: VA Forms 10-0142b, 10-1465-1, 10-1465-3, 10-1465-9, and 10-5387 will be used to survey customers regarding their satisfaction with VA's healthcare services. VA will use the data collected to identify areas where attention is needed and to improve its quality of health care services provided to veterans.

An agency may not conduct or sponsor, and a person is not required to respond to a collection of information unless it displays a currently valid OMB control number. The Federal Register Notice with a 60-day comment period soliciting comments on this collection of information was published on January 26, 2006, at page 4403-4404.

Affected Public: Individuals or households.

Estimated Annual Burden: 199,907 hours.

a. Survey of Healthcare Experiences of Patients Recently Discharged Inpatient, VA Form 10-1465-1—37,500.

b. Survey of Healthcare Experiences of Patient's Ambulatory Care, VA Form 10-1465-3—153,300.

c. About your VA Prosthetics Care and Service, VA Form 10-0142b—4,320.

d. Survey on Your Home Based Primary Care (HBPC), VA Form 10-1465-9—600.

e. Customer Satisfaction Survey for Nutritional and Food Service, VA Form 10-5387—4,187.

Estimated Average Burden Per Respondent:

a. Survey of Healthcare Experiences of Patients Recently Discharged Inpatient, VA Form 10-1465-1—30 minutes.

b. Survey of Healthcare Experiences of Patient's Ambulatory Care, VA Form 10-1465-3—30 minutes.

c. About your VA Prosthetics Care and Service, VA Form 10-0142b—24 minutes.

d. Survey on Your Home Based Primary Care (HBPC), VA Form 10-1465-9—15 minutes.

e. Customer Satisfaction Survey Nutritional and Food Service, VA Form 10-5387—2 minutes.

Frequency of Response: On occasion.

Estimated Number of Respondents: 439,400.

a. Survey of Healthcare Experiences of Patients Recently Discharged Inpatient, VA Form 10-1465-1—75,000.

b. Survey of Healthcare Experiences of Patient's Ambulatory Care, VA Form 10-1465-3—306,600.

c. About your VA Prosthetics Care and Service, VA Form 10-0142b—21,600.

d. Survey on Your Home Based Primary Care (HBPC), VA Form 10-1465-9—4,800.

e. Customer Satisfaction Survey Nutritional and Food Service, VA Form 10-5387—31,400.

Estimated Total Annual Responses: 520,400.

a. Survey of Healthcare Experiences of Patients Recently Discharged Inpatient, VA Form 10-1465-1—75,000.

b. Survey of Healthcare Experiences of Patient's Ambulatory Care, VA Form 10-1465-3—306,600.

c. About your VA Prosthetics Care and Service, VA Form 10-0142b—10,800.

d. Survey on Your Home Based Primary Care (HBPC), VA Form 10-1465-9—2,400.

e. Customer Satisfaction Survey Nutritional and Food Service, VA Form 10-5387—125,600.

Dated: April 24, 2006.
By direction of the Secretary.
Denise McLamb,
Program Analyst, Records Management Service.

[FR Doc. E6-6709 Filed 5-2-06; 8:45 am]

BILLING CODE 8320-01-P